DEPARTMENT OF STATE

[Public Notice: 7628]

Waiver of Restriction on Assistance to the Central Government of the Kingdom of Swaziland

Pursuant to Section 7086(c)(2) of the Department of State, Foreign Operations, and Related Programs Appropriations Act, 2010 (Div. F, Pub. L.111-117), as carried forward by the Full-Year Continuing Appropriations Act, 2011 (Div. B, Pub. L. 112-10) (“the Act”), and Department of State Delegation of Authority Number 245-1, I hereby determine that it is important to the national interest of the United States to waive the requirements of Section 7086(c)(1) of the Act with respect to the Kingdom of Swaziland and I hereby waive such restriction.

This determination shall be reported to the Congress, and published in the Federal Register.

Dated: June 24, 2011.
Thomas Nides,
Deputy Secretary of State for Management and Resources.

[FR Doc. 2011-25449 Filed 9-30-11; 8:45 am]

BILLING CODE 4710-26-P